Executive Order 13194 of January 18, 2001

Prohibiting the Importation of Rough Diamonds From Sierra Leone

By the authority vested in me as President by the Constitution and the laws of the United States of America, including the International Emergency Economic Powers Act (50 U.S.C. 1701 et seq.) (IEEPA), the National Emergencies Act (50 U.S.C. 1601 et seq.), section 5 of the United Nations Participation Act of 1945, as amended (22 U.S.C. 287c) (UNPA), and section 301 of title 3, United States Code, and in view of United Nations Security Council Resolution 1306 of July 5, 2000,

I, WILLIAM J. CLINTON, President of the United States of America, take note that the people of Sierra Leone have suffered the ravages of a brutal civil war for nearly 10 years, and that the United Nations Security Council has determined that the situation in Sierra Leone constitutes a threat to international peace and security in the region and also has expressed concerns regarding the role played by the illicit trade in diamonds in fueling the conflict in Sierra Leone. Sierra Leone's insurgent Revolutionary United Front's (RUF's) illicit trade in diamonds from Sierra Leone to fund its operations and procurement of weapons, the RUF's flagrant violation of the Lome Peace Agreement of July 7, 1999, and its attacks on personnel of the United Nations Mission in Sierra Leone are direct challenges to the United States foreign policy objectives in the region as well as a direct challenge to the rule-based international order which is crucial to the peace and prosperity of the United States. Therefore, I find these actions constitute an unusual and extraordinary threat to the foreign policy of the United States and hereby declare a national emergency to deal with that threat. In order to implement United Nations Security Council Resolution 1306 and to ensure that the direct or indirect importation into the United States of rough diamonds from Sierra Leone will not contribute financial support to aggressive actions by the RUF or to the RUF's procurement of weapons, while at the same time seeking to avoid undermining the legitimate diamond trade or diminishing confidence in the integrity of the legitimate diamond industry, I hereby order:

Section 1. Except to the extent provided in section 2 of this order and to the extent provided in regulations, orders, directives, or licenses issued pursuant to this order, and notwithstanding the existence of any rights or obligations conferred or imposed by any international agreement or any contract entered into or any license or permit granted prior to the effective date of this order, the direct or indirect importation into the United States of all rough diamonds from Sierra Leone on or after the effective date of this order is prohibited.

Sec. 2. The prohibition in section 1 of this order shall not apply to the importation of rough diamonds controlled through the Certificate of Origin regime of the Government of Sierra Leone.

Sec. 3. Any transaction by a United States person or within the United States that evades or avoids, or has the purpose of evading or avoiding, or attempts to violate, any of the prohibitions set forth in this order is prohibited.

Sec. 4. For the purposes of this order:

(a) the term “person” means an individual or entity;

(b) the term “entity” means a partnership, association, trust, joint venture, corporation, or other organization;

(c) the term “United States person” means any United States citizen, permanent resident alien, entity organized under the laws of the United States or any jurisdiction within the United States (including foreign branches), or any person in the United States;

(d) the term “rough diamond” means all unworked diamonds classifiable in heading 7102 of the Harmonized Tariff Schedule of the United States; and

(e) the term “controlled through the Certificate of Origin regime of the Government of Sierra Leone” means accompanied by a Certificate of Origin or other documentation that demonstrates to the satisfaction of the United States Customs Service (or analogous officials of a United States territory or possession with its own customs administration) that the rough diamonds were legally exported from Sierra Leone with the approval of the Government of Sierra Leone.

Sec. 5. The Secretary of the Treasury, in consultation with the Secretary of State, is hereby authorized to take such actions, including the promulgation of rules and regulations, and to employ all powers granted to the President by IEEPA and UNPA, as may be necessary to carry out the purposes of this order. The Secretary of the Treasury may redelegate any of these functions to other officers and agencies of the United States Government. All agencies of the United States Government are hereby directed to take all appropriate measures within their authority to carry out the provisions of this order.

Sec. 6. This order is not intended to create, nor does it create, any right, benefit, or privilege, substantive or procedural, enforceable at law by a party against the United States, its agencies, officers, or any other person.

Sec. 7. This order is effective at 12:01 a.m. eastern standard time on January 19, 2001.

wj

THE WHITE HOUSE,

January 18, 2001.

[FR Doc. 01-2140

Filed 1-22-01; 8:45 am]

Billing code 3195-01-P